DEPARTMENT OF THE INTERIOR

Bureau of Ocean Energy Management

[MMAA 104000]

Outer Continental Shelf, Gulf of Mexico, Oil and Gas Lease Sales, Western Planning Area Lease Sales 246 and 248

AGENCY: Bureau of Ocean Energy Management (BOEM), Interior.

ACTION: Notice of availability of the Final Supplemental Environmental Impact Statement.

SUMMARY: BOEM has prepared a Final Supplemental Environmental Impact Statement (EIS) for proposed Outer Continental Shelf (OCS) oil and gas Lease Sales 246 and 248, which are tentatively scheduled to be held in August 2015 and 2016, respectively, in the Gulf of Mexico (GOM) Western Planning Area (WPA) offshore the States of Texas and Louisiana. This Final Supplemental EIS updates the environmental and socioeconomic analyses for proposed WPA Lease Sales 246 and 248 evaluated in the Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS; OCS EIS/EA BOEM 2012-019); Gulf of Mexico OCS Oil and Gas Lease Sales: 2013-2014; Western Planning Area Lease Sale 233; Central Planning Area Lease Sale 231, Final Supplemental Environmental Impact Statement (WPA 233/CPA 231 Supplemental EIS; OCS EIS/EA BOEM 2013-0118); and Gulf of Mexico OCS Oil and Gas Lease Sales: 2014-2016; Western Planning Area Lease Sales 238, 246, and 248, Final Supplemental Environmental Impact Statement (WPA 238/246/248 Supplemental EIS; OCS EIS/EA BOEM 2014-009). The 2012-2017 WPA/CPA Multisale EIS was completed in July 2012. The WPA 233/CPA 231 Supplemental EIS was completed in April 2013. The WPA 238/246/248 Supplemental EIS was completed in March 2014.

FOR FURTHER INFORMATION CONTACT: Mr. Gary D. Goeke, Bureau of Ocean Energy Management, Gulf of Mexico OCS Region, Office of Environment (GM 623E), 1201 Elmwood Park Boulevard, New Orleans, Louisiana 70123-2394, by telephone at 504-736-3233 or email at wpa246@boem.gov.

SUPPLEMENTARY INFORMATION: BOEM developed this Final Supplemental EIS for proposed WPA Lease Sales 246 and 248 to consider new information made available since completion of the 2012-2017 WPA/CPA Multisale EIS, WPA 233/CPA 231 Supplemental EIS, and WPA 238/246/248 Supplemental EIS, and to consider new information on the Deepwater Horizon explosion, oil spill, and response. This Final Supplemental EIS provides updates on the baseline conditions and potential environmental effects of oil and natural gas leasing, exploration, development, and production in the WPA. BOEM conducted an extensive search for new information in consideration of the Deepwater Horizon explosion, oil spill, and response, reviewing scientific journals and available scientific data and information from academic institutions and Federal, State, and local agencies; and interviewing personnel from academic institutions and Federal, State, and local agencies. BOEM has examined the potential impacts of routine activities, accidental events, and the proposed lease sales' incremental contribution to the cumulative impacts on environmental and socioeconomic resources. BOEM has also examined the potential impacts associated with a low-probability catastrophic event. The oil and gas resource estimates and scenario information for this Final Supplemental EIS are presented as a range that would encompass the oil and gas resources and activities estimated for a proposed WPA lease sale.

BOEM has printed and will be distributing a limited number of paper copies of the Final Supplemental EIS. In keeping with the Department of the Interior's mission of the protection of natural resources and to limit costs while ensuring availability of the document to the public, BOEM will primarily distribute digital copies of the Final Supplemental EIS on compact discs. However, if you require a paper copy, BOEM will provide one upon request if copies are still available.

1. You may obtain a copy of the Final Supplemental EIS from the Bureau of Ocean Energy Management, Gulf of Mexico OCS Region, Public Information Office (GM 335A), 1201 Elmwood Park Boulevard, Room 250, New Orleans, Louisiana 70123-2394 (1-800-200-GULF).

2. You may download or view the Final Supplemental EIS on BOEM's Web site at http://www.boem.gov//.

Several libraries along the Gulf Coast have been sent copies of the Final Supplemental EIS. To find out which libraries have copies of the Final Supplemental EIS for review, you may contact BOEM's Public Information Office or visit BOEM's Web site at http://www.boem.gov//.

Authority: This Notice of Availability is published pursuant to the regulations (40 CFR part 1503) implementing the provisions of the National Environmental Policy Act (NEPA) of 1969, as amended (42 U.S.C. 4321 et seq. [1988]).

Dated: January 27, 2015.
Abigail Ross Hopper,
Director, Bureau of Ocean Energy Management.

[FR Doc. 2015-05037 Filed 3-5-15; 8:45 am]

BILLING CODE 4310-MR-P